DEPARTMENT OF ENERGY

Federal Energy Regulatory Commission

[Docket Nos. PL04-14-000, et al.]

Connecticut Transmission Infrastructure, et al.; Supplemental Notice

October 7, 2004.

New England Power Pool and ISO New England, Inc.

[Docket No. ER03-1141-003]

Devon Power LLC, et al.

[Docket Nos. EL04-102-001, EL04-102-002, ER03-563-018, ER03-563-021, ER03-563-025, ER03-563-026, ER03-563-027, ER03-563-028, ER03-563-033, ER03-563-036, ER03-563-038, ER03-563-039, ER03-563-043, ER04-464-002, ER04-464-005, ER04-464-006]

Exelon New Boston LLC

[Docket No. ER04-344-001]

ISO New England Inc.

[Docket Nos. EL00-62-055, ER02-2463-003]

Mirant Kandall, LLC

[Docket Nos. ER03-998-001, ER03-998-002]

PPL Wallingford Energy LLC, et al.

[Docket Nos. ER03-421-007, ER03-421-008]

New England Power Pool Participants

[Docket No. ER03-345-003]

New England Power Pool

[Docket Nos ER02-2330-009, ER02-2330-026, ER02-2330-027, ER02-2330-028, ER02-2330-029]

In a Notice of Technical Conference issued September 17, 2004, the Federal Energy Regulatory Commission announced that it would host a technical conference on Wednesday, October 13, 2004 to discuss infrastructure issues for the State of Connecticut and the surrounding region. The technical conference will be held in Room 2C of the Legislative Office Building, 300 Capitol Avenue, Hartford, Connecticut. The time for the technical conference has been changed. The technical conference was previously announced to begin at 10 a.m. and end at 3 p.m. The technical conference is now scheduled to begin at 9 a.m. (EST) and end at 4 p.m.

The goal of the technical conference is to provide a forum for discussion of issues affecting energy infrastructure in and around Connecticut. This discussion will take place between federal, state and regional leaders and industry representatives. The conference will explore proposals for new electric transmission, their impact on electric reliability for the region, implications for connectivity with the entire New England grid and its relation to neighboring regions, the costs of the proposals and possible allocation of those costs. The agenda for this meeting is included as Attachment A to this notice.

The conference is a technical discussion between policy leaders, which members of the public are welcome to attend. Registration is not required; however, in-person attendees are asked to register for the conference on-line by close of business on Monday, October 11, 2004 at http://www.ferc.gov/whats-new/registration/infra-1013-form.asp.

Transcripts of the conference will be immediately available from Ace Reporting Company (202-347-3700 or 1-800-336-6646) for a fee. They will be available for the public on the Commission's eLibrary system seven calendar days after FERC receives the transcript. Additionally, Capitol Connection offers the opportunity for remote listening of the conference via Real Audio or a Phone Bridge Connection for a fee. Persons interested in making arrangements should contact David Reininger or Julia Morelli at the Capitol Connection (703-993-3100) as soon as possible or visit the Capitol Connection Web site at http://www.capitolconnection.org and click on “FERC.”

For more information about the conference, please contact Sarah McKinley at 202-502-8004, sarah.mckinley@ferc.gov.

Magalie R. Salas,
Secretary.

Attachment A

Agenda, Connecticut Infrastructure Meeting, Hartford, Connecticut

9 a.m. Introductions

Representative Terry Backer, Chair, Energy and Technology Committee, Connecticut Legislature

Donald W. Downes, Chairperson, Connecticut Department of Public Utility Control

Pat Wood, III, Chairman, Federal Energy Regulatory Commission

9:20 a.m. Infrastructure in Connecticut

John Schnagl, Office of Energy Projects, FERC

Kevin Kirby, Vice President of Market Operations, ISO New England, Inc.

S. Derek Phelps, Executive Director, Connecticut Siting Council

David H. Boguslawski, Vice President, Transmission Business, Northeast Utilities Service Company

10:45 a.m. Pricing and Cost Allocation Issues

Stephen G. Whitley, Senior Vice President and Chief Operating Officer, ISO New England, Inc.

Mary J. Healey, Office of Consumer Counsel, State of Connecticut

Joseph F. Brennan, Senior Vice President, Connecticut Business & Industry Association

Joseph McGee, Vice President, Public Policy & Programs, SACIA, The Business Council of Fairfield County

Thomas L. Welch, Chairman, Maine Public Utilities Commission

12 p.m. Lunch Break

1 p.m. Safety Issues—EMF

Dr. Robert Goldberg, Director for EMF Activities and Editor of EMF Health Report, Philadelphia, Pennsylvania

1:30 p.m. Technology Options

Dennis Duffy, Senior Vice President, Energy Management, Inc., on behalf of The Competitive Power Coalition

Jeffrey A. Donohue, President and CEO, Transénergie U.S. Ltd.

Doug Johnson, Composite Conductor Program, 3M Specialty Materials Division

John B. Howe, Vice President, Electric Industry Affairs, American Superconductor

Steve Doyon, Vice President of Virtual Peaking Capacity (VPC) Development, Comverge, Inc.

2:45 p.m. Reliability Issues

Stephen G. Whitley, Senior Vice President and Chief Operating Officer, ISO New England, Inc.

Roger C. Zaklukiewicz, Vice President of Transmission Projects, Northeast Utilities System

Anthony Vallillo, President and Chief Operating Officer, United Illuminating Company

Lee Olivier, President and Chief Operating Officer, Connecticut Light & Power

4 p.m. Adjourn

[FR Doc. E4-2668 Filed 10-15-04; 8:45 am]

BILLING CODE 6717-01-P